DEPARTMENT OF ENERGY

Federal Energy Regulatory Commission

Combined Notice of Filings

Take notice that the Commission has received the following Natural Gas Pipeline Rate and Refund Report filings:

Filings Instituting Proceedings

Docket Numbers: RP22-29-000.

Applicants: Natural Gas Pipeline Company of America LLC.

Description: § 4(d) Rate Filing: Amendment to a Negotiated Rate Agreement Filing-Morgan Stanley Capital Group to be effective 10/8/2021.

Filed Date: 10/8/21.

Accession Number: 20211008-5004.

Comment Date: 5 p.m. ET 10/20/21.

Docket Numbers: RP22-30-000.

Applicants: Natural Gas Pipeline Company of America LLC.

Description: § 4(d) Rate Filing: Negotiated Rate Filing—Sequent Energy Management, L.P. to be effective 11/1/2021.

Filed Date: 10/8/21.

Accession Number: 20211008-5005.

Comment Date: 5 p.m. ET 10/20/21.

Docket Numbers: RP22-31-000.

Applicants: East Tennessee Natural Gas, LLC.

Description: Compliance filing: East Tennessee Order 587-Z (Docket RM96-1-042) Compliance Filing to be effective 6/1/2022.

Filed Date: 10/8/21.

Accession Number: 20211008-5087.

Comment Date: 5 p.m. ET 10/20/21.

Docket Numbers: RP22-32-000.

Applicants: Southeast Supply Header, LLC.

Description: Compliance filing: SESH Order 587-Z (Docket RM96-1-042) Compliance Filing to be effective 6/1/2022.

Filed Date: 10/8/21.

Accession Number: 20211008-5099.

Comment Date: 5 p.m. ET 10/20/21.

Docket Numbers: RP22-33-000.

Applicants: Sabal Trail Transmission, LLC.

Description: Compliance filing: STT Order 587-Z (Docket RM96-1-042) Compliance Filing to be effective 6/1/2022.

Filed Date: 10/8/21.

Accession Number: 20211008-5106.

Comment Date: 5 p.m. ET 10/20/21.

Docket Numbers: RP22-34-000.

Applicants: Saltville Gas Storage Company L.L.C.

Description: Compliance filing: SGSC Order 587-Z (Docket RM96-1-042) Compliance Filing to be effective 6/1/2022.

Filed Date: 10/8/21.

Accession Number: 20211008-5115.

Comment Date: 5 p.m. ET 10/20/21.

Docket Numbers: RP22-35-000.

Applicants: Texas Eastern Transmission, LP.

Description: § 4(d) Rate Filing: Cameron Non-Conforming Filing—Venture 911757 to be effective 11/8/2021.

Filed Date: 10/8/21.

Accession Number: 20211008-5171.

Comment Date: 5 p.m. ET 10/20/21.

Docket Numbers: RP22-36-000.

Applicants: Tennessee Gas Pipeline Company, L.L.C.

Description: § 4(d) Rate Filing: Volume No. 2—Sequent Energy Management, L.P. SP100239 to be effective 11/1/2021.

Filed Date: 10/12/21.

Accession Number: 20211012-5105.

Comment Date: 5 p.m. ET 10/25/21.

Docket Numbers: RP22-37-000.

Applicants: Natural Gas Pipeline Company of America LLC.

Description: § 4(d) Rate Filing: Amendment to a Negotiated Rate Agreement Filing-Citadel Energy to be effective 11/1/2021.

Filed Date: 10/12/21.

Accession Number: 20211012-5178.

Comment Date: 5 p.m. ET 10/25/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2021.
Kimberly D. Bose,
Secretary.

[FR Doc. 2021-22603 Filed 10-15-21; 8:45 am]

BILLING CODE 6717-01-P